DEPARTMENT OF LABOR

Employment and Training Administration Program Year (PY) 2012 Workforce Investment Act (WIA) Allotments; PY 2012 Wagner-Peyser Act Final Allotments and PY 2012 Workforce Information Grants

AGENCY: Employment and Training Administration, Labor.

ACTION: Notice.

SUMMARY: This notice announces allotments for PY 2012 for WIA Title I Youth, Adults and Dislocated Worker Activities programs; final allotments for Employment Service (ES) activities under the Wagner-Peyser Act for PY 2012 and Workforce Information Grants allotments for PY 2012. Allotments for the Work Opportunity Tax Credits will be announced separately.

WIA allotments for States and the State final allotments for the Wagner-Peyser Act are based on formulas defined in their respective statutes. The WIA allotments for the outlying areas are based on a formula determined by the Secretary of Labor (Secretary). As required by WIA section 182(d), on February 17, 2000, a notice of the discretionary formula for allocating PY 2000 funds for the outlying areas (American Samoa, Guam, Marshall Islands, Micronesia, Northern Marianas, Palau, and the Virgin Islands) was published in the Federal Register at 65 FR 8236 (February 17, 2000). The rationale for the formula and methodology was fully explained in the February 17, 2000, Federal Register notice. The formula for PY 2012 is the same as used for PY 2000 and is described in the section on Youth Activities program allotments. Comments are invited on the formula used to allot funds to the outlying areas.

DATES: Comments on the formula used to allot funds to the outlying areas must be received April 16, 2012.

ADDRESSES: Submit written comments to the Employment and Training Administration, Office of Financial and Administrative Management, 200 Constitution Ave. NW., Room N-4702, Washington, DC 20210, Attention: Mr. Samuel Jerome Cooper, (202) 693-2833 (phone), (202) 693-2859 (fax), email: Cooper.Samuel@dol.gov.

Commenters are advised that mail delivery in the Washington area may be delayed due to security concerns. Hand-delivered comments will be received at the above address. All overnight mail will be considered to be hand-delivered and must be received at the designated place by the date specified above.

Please submit your comments by only one method. The Department will not review comments received by means other than those listed above or that are received after the comment period has closed.

Comments: All comments on this notice will be retained by the Department and released upon request via email to any member of the public. The Department also will make all the comments it received available for public inspection by appointment during normal business hours at the above address. If you need assistance to review the comments, the Department will provide you with appropriate aids such as readers or print magnifiers. The Department will make copies of this notice available, upon request, in large print, Braille and electronic file on computer disk. The Department will consider providing the notice in other formats upon request. To schedule an appointment to review the comments and/or obtain the notice in an alternative format, contact Mr. Cooper using the information listed above. The Department will retain all comments received without making any changes to the comments, including any personal information provided. If requested, the comments will be released to the public. The Department cautions commenters not to include their personal information such as Social Security Numbers, personal addresses, telephone numbers, and email addresses in their comments, as such submitted information will be released with the comment if the comments are requested. It is the commenter's responsibility to safeguard his or her information. If the comment is submitted by email, the email addresses of the commenter will not be released.

FOR FURTHER INFORMATION CONTACT: WIA Youth Activities allotments—Evan Rosenberg at (202) 693-3593 or LaSharn Youngblood at (202) 693-3606; WIA Adult and Dislocated Worker Activities and ES final allotments—Christine Ollis at (202) 693-3937; Workforce Information Grant allotments—Anthony Dais at (202) 693-2784. Individuals with hearing or speech impairments may access the telephone numbers above via TTY by calling the toll-free Federal Information Relay Service at 1-877-889-5627 (TTY/TDD).

SUPPLEMENTARY INFORMATION: The Department of Labor (Department) is announcing WIA allotments for PY 2012 for Youth Activities, Adults and Dislocated Worker Activities, Wagner-Peyser Act PY 2012 final allotments and FY 2012 Workforce Information Grant allotments. This notice provides information on the amount of funds available during PY 2012 to States with an approved WIA Title I and Wagner-Peyser Act Strategic Plan for PY 2012, and information regarding allotments to the outlying areas.

The allotments are based on the funds appropriated in the Consolidated Appropriations Act, 2012, Public Law 112-74, Division F, signed December 23, 2011. The Act requires an across-the-board rescission of 0.189 percent to all Federal Fiscal Year (FY) 2012 discretionary program funding. Included below are tables listing the PY 2012 allotments for programs under WIA Title I Youth Activities (Table A), Adult and Dislocated Workers Employment and Training Activities (Tables B and C, respectively), and the PY 2012 Wagner-Peyser Act final allotments (Table D). Also attached is the PY 2012 Workforce Information Grant table (Table E).

Youth Activities Allotments

PY 2012 Youth Activities funds under WIA total $824,353,022 (including the 0.189 percent rescission). Table A includes a breakdown of the Youth Activities program allotments for PY 2012 and provides a comparison of these allotments to PY 2011 Youth Activities allotments for all States, and outlying areas. Before determining the amount available for States, the total funding available for the outlying areas was reserved at 0.25 percent of the full amount appropriated for Youth Activities (after the 0.189 percent rescission). On December 17, 2003, Public Law 108-188, the Compact of Free Association Amendments Act of 2003 (“the Compact”), was signed. The Compact provided for consolidation of WIA Title I funding, for the Marshall Islands and Micronesia into supplemental grants provided from the Department of Education's appropriation. See 48 USC 1921d(f)(1)(B)(iii). The Compact also specified that the Republic of Palau remained eligible for WIA Title I funding. See 48 USC 1921d(f)(1)(B)(ix). The Consolidated Appropriations Act, 2012 (in the Department of Education's General Provisions at Section 306 of Title III, Division F, Pub. L. 112-74) amended the Compact to extend the availability of WIA Title I funding to Palau through FY 2012.

The methodology for distributing funds to all outlying areas is not specified by WIA, but is at the Secretary's discretion. The methodology used is the same as used since PY 2000, i.e., funds are distributed among the remaining areas by formula based on relative share of number of unemployed, a 90 percent hold-harmless of the prior year share, a $75,000 minimum, and a 130 percent stop-gain of the prior year share. As in PY 2011, data for the relative share calculation in the PY 2012 formula were from 2000 Census data for all outlying areas, obtained from the Bureau of the Census Bureau (Bureau) and are based on 2000 Census surveys for those areas conducted either by the Bureau or the outlying areas under the guidance of the Bureau.

The total amount available for Native Americans is 1.5 percent of the total amount for Youth Activities, in accordance with WIA section 127. After determining the amount for the outlying areas and Native Americans, the amount available for allotment to the States for PY 2012 is $809,926,845. This total amount was below the required $1 billion threshold specified in section 127(b)(1)(C)(iv)(IV); therefore, as in PY 2011, the WIA additional minimum provisions were not applied, and, instead, as required by WIA, the Job Training Partnership Act (JTPA) section 202(a)(3) (as amended by section 701 of the Job Training Reform Amendments of 1992) minimums of 90 percent hold-harmless of the prior year allotment percentage and 0.25 percent State minimum floor were used. Also, as required by WIA, the provision applying a 130 percent stop-gain of the prior year allotment percentage was used. The three formula factors required in WIA use the following data for the PY 2012 allotments:

(1) Number of unemployed for Areas of Substantial Unemployment (ASUs) averages for the 12-month period, July 2010 through June 2011;

(2) Number of excess unemployed individuals or the ASU excess (depending on which is higher) averages for the same 12-month period used for ASU unemployed data; and

(3) Number of economically disadvantaged youth (age 16 to 21, excluding college students and military) from special 2000 Census calculations.

Beginning with the PY 2006 allotments, States identify the ASU data for the PY 2012 allotments using special 2000 Census data based on households, obtained under Employment and Training Administration contract with the Census Bureau and provided to States by the Bureau of Labor Statistics.

It should be noted that the most current Census, conducted in 2010, did not include the long form survey which ETA would have used to update the data from the 2000 Census. Instead, ETA will continue to work with the Census Bureau over the next years to use data from the American Community Survey (ACS). ETA will alert States when new data are available for use in within-State allocation formulas; however, updated data will not be available for use with PY 2012 funding.

Adult Employment and Training Activities Allotments

The total Adult Employment and Training Activities appropriation is $770,810,637 (including the 0.189 percent rescission). Table B shows the PY 2012 Adult Employment and Training Activities allotments and comparison to PY 2011 allotments by State. Like the Youth Activities program, the total available for the outlying areas was reserved at 0.25 percent of the full amount appropriated for Adult Activities. As discussed in the Youth Activities section above, WIA funding for the Marshall Islands and Micronesia is no longer provided; instead, funding is provided in the Department of Education's appropriation. The Adult Activities funds for grants to the remaining outlying areas, for which the distribution methodology is at the Secretary's discretion, were distributed among the areas by the same principles, formula and data as used for outlying areas for Youth Activities. After determining the amount for the outlying areas, the amount available for allotments to the States is $768,883,610. Like the Youth Activities program, the WIA minimum provisions were not applied for the PY 2012 allotments because the total amount available for the States was below the $960 million threshold required for Adult Activities in section 132(b)(1)(B)(iv)(IV). Instead, as required by WIA, the minimum allotments were calculated using the JTPA section 202(a)(3) (as amended by section 701 of the Job Training Reform Amendments of 1992) minimums of 90 percent hold-harmless of the prior year allotment percentage and 0.25 percent State minimum floor. Also, like the Youth Activities program, a provision applying a 130 percent stop-gain of the prior year allotment percentage was used. The three formula factors use the same data as used for the PY 2012 Youth Activities formula, except that data from the 2000 Census for the number of economically disadvantaged adults (age 22 to 72, excluding college students and military) were used.

As noted above, ETA will alert States when new census data are available for use in within-State allocation formulas; however, updated data will not be available for use with PY 2012 funding.

Dislocated Worker Employment and Training Activities Allotments

The total Dislocated Worker appropriation is $1,232,217,892 (including the 0.189 rescission). The total appropriation includes formula funds for the States, while the National Reserve is used for National Emergency Grants, technical assistance and training, demonstration projects, and the outlying areas' Dislocated Worker allotments. Table C shows the PY 2012 Dislocated Worker Activities fund allotments by State. Like the Youth and Adult Activities programs, the total available for the outlying areas was reserved at 0.25 percent of the full amount appropriated for Dislocated Worker Activities. WIA funding for the Marshall Islands and Micronesia is no longer provided, as discussed above. The Dislocated Worker Activities funds for grants to the remaining outlying areas, for which the distribution methodology is at the Secretary's discretion, were distributed by the same pro rata share as the areas received for the PY 2012 WIA Adult Activities program, the same methodology used in PY 2011. For the State distribution of formula funds, the three formula factors required in WIA use the following data for the PY 2012 allotments:

(1) Number of unemployed, averages for the 12-month period, October 2010 through September 2011;

(2) Number of excess unemployed, averages for the 12-month period, October 2010 through September 2011; and

(3) Number of long-term unemployed, averages for the 12-month period, October 2010 through September 2011.

Since the Dislocated Worker Activities formula has no floor amount or hold-harmless provisions, funding changes for States directly reflect the impact of changes in the number of unemployed.

Wagner-Peyser Act ES Final Allotments

The appropriated level for PY 2012 for ES grants totals $700,841,900 (including the 0.189 rescission). After determining the funding for outlying areas, allotments to States were calculated using the formula set forth at section 6 of the Wagner-Peyser Act (29 U.S.C. 49e). PY 2012 formula allotments were based on each state's share of calendar year 2011 monthly averages of the civilian labor force (CLF) and unemployment. The Secretary is required to set aside up to three percent of the total available funds to assure that each State will have sufficient resources to maintain statewide ES activities, as required under section 6(b)(4) of the Wagner-Peyser Act. In accordance with this provision, the three percent set-aside funds are included in the total allotment. The set-aside funds were distributed in two steps to States that have lost in relative share of resources from the previous year. In Step 1, States that have a CLF below one million and are also below the median CLF density were maintained at 100 percent of their relative share of prior year resources. All remaining set-aside funds were distributed on a pro-rata basis in Step 2 to all other States losing in relative share from the prior year but not meeting the size and density criteria for Step 1. The distribution of ES funds (Table D) includes $699,133,491 for States, as well as $1,708,409 for outlying areas.

Under section 7 of the Wagner-Peyser Act, 10 percent of the total sums allotted to each State shall be reserved for use by the Governor to provide performance incentives for ES offices, services for groups with special needs, and for the extra costs of exemplary models for delivering job services.

Workforce Information Grants Allotments

Total PY 2012 funding for Workforce Information Grants allotments to States is $31,939,520 (after the 0.189 percent rescission). The allotment figures for each State are listed in Table E. Funds are distributed by administrative formula, with a reserve of $176,655 for Guam and the Virgin Islands. The remaining funds are distributed to the States with 40 percent distributed equally to all States and 60 percent distributed based on each State's share of CLF for the 12 months ending September 2011.

Table A—U.S. Department of Labor Employment and Training Administration WIA Youth Activities State Allotments Comparison of PY 2012 vs PY 2011
State | PY 2011 | PY 2012 | Difference | % Difference
Total | $825,913,862 | $824,353,022 | ($1,560,840) | −0.19
Alabama | 12,455,574 | 11,711,479 | (744,095) | −5.97
Alaska | 2,216,462 | 2,024,817 | (191,645) | −8.65
Arizona | 15,326,190 | 16,510,641 | 1,184,451 | 7.73
Arkansas | 6,794,393 | 6,431,994 | (362,399) | −5.33
California | 117,952,080 | 123,857,750 | 5,905,670 | 5.01
Colorado | 9,788,025 | 11,882,561 | 2,094,536 | 21.40
Connecticut | 8,060,872 | 8,794,724 | 733,852 | 9.10
Delaware | 2,028,651 | 2,024,817 | (3,834) | −0.19
District of Columbia | 2,402,872 | 2,323,591 | (79,281) | −3.30
Florida | 50,372,277 | 53,892,125 | 3,519,848 | 6.99
Georgia | 24,305,197 | 25,482,266 | 1,177,069 | 4.84
Hawaii | 2,272,811 | 2,243,958 | (28,853) | −1.27
Idaho | 3,428,419 | 4,027,145 | 598,726 | 17.46
Illinois | 36,086,031 | 32,767,678 | (3,318,353) | −9.20
Indiana | 16,043,006 | 15,457,182 | (585,824) | −3.65
Iowa | 5,519,334 | 4,962,142 | (557,192) | −10.10
Kansas | 5,248,975 | 5,511,824 | 262,849 | 5.01
Kentucky | 12,514,937 | 12,676,374 | 161,437 | 1.29
Louisiana | 11,269,372 | 11,409,318 | 139,946 | 1.24
Maine | 2,887,584 | 2,831,274 | (56,310) | −1.95
Maryland | 10,073,999 | 10,354,690 | 280,691 | 2.79
Massachusetts | 15,988,686 | 15,009,154 | (979,532) | −6.13
Michigan | 41,642,666 | 37,407,571 | (4,235,095) | −10.17
Minnesota | 11,474,392 | 10,523,152 | (951,240) | −8.29
Mississippi | 10,523,093 | 9,452,885 | (1,070,208) | −10.17
Missouri | 14,549,044 | 15,108,428 | 559,384 | 3.84
Montana | 2,174,750 | 2,405,630 | 230,880 | 10.62
Nebraska | 2,288,141 | 2,207,155 | (80,986) | −3.54
Nevada | 8,303,837 | 9,104,832 | 800,995 | 9.65
New Hampshire | 2,253,475 | 2,024,817 | (228,658) | −10.15
New Jersey | 20,362,826 | 20,322,861 | (39,965) | −0.20
New Mexico | 4,775,669 | 4,918,291 | 142,622 | 2.99
New York | 46,253,787 | 45,892,839 | (360,948) | −0.78
North Carolina | 24,598,968 | 23,736,834 | (862,134) | −3.50
North Dakota | 2,028,651 | 2,024,817 | (3,834) | −0.19
Ohio | 31,915,350 | 29,136,945 | (2,778,405) | −8.71
Oklahoma | 6,877,913 | 6,676,111 | (201,802) | −2.93
Oregon | 11,026,583 | 10,760,018 | (266,565) | −2.42
Pennsylvania | 29,506,561 | 28,346,353 | (1,160,208) | −3.93
Puerto Rico | 23,908,509 | 21,476,993 | (2,431,516) | −10.17
Rhode Island | 3,767,218 | 3,687,520 | (79,698) | −2.12
South Carolina | 13,916,063 | 12,754,206 | (1,161,857) | −8.35
South Dakota | 2,028,651 | 2,024,817 | (3,834) | −0.19
Tennessee | 16,288,215 | 15,784,120 | (504,095) | −3.09
Texas | 52,833,195 | 55,664,646 | 2,831,451 | 5.36
Utah | 4,121,624 | 5,347,985 | 1,226,361 | 29.75
Vermont | 2,028,651 | 2,024,817 | (3,834) | −0.19
Virginia | 13,540,444 | 13,020,339 | (520,105) | −3.84
Washington | 15,992,583 | 16,959,549 | 966,966 | 6.05
West Virginia | 4,315,932 | 4,577,244 | 261,312 | 6.05
Wisconsin | 13,099,180 | 12,342,748 | (756,432) | −5.77
Wyoming | 2,028,651 | 2,024,817 | (3,834) | −0.19
State Total | 811,460,369 | 809,926,844 | (1,533,525) | −0.19
American Samoa | 117,342 | 117,112 | (230) | −0.20
Guam | 955,133 | 953,260 | (1,873) | −0.20
Northern Marianas | 353,447 | 352,754 | (693) | −0.20
Palau | 75,000 | 75,000 | 0 | 0.00
Virgin Islands | 563,863 | 562,757 | (1,106) | −0.20
Outlying Areas Total | 2,064,785 | 2,060,883 | (3,902) | −0.19
Native Americans | 12,388,708 | 12,365,295 | (23,413) | −0.19

Table B—U.S. Department of Labor Employment and Training Administration WIA Adult Activities State Allotments Comparison of PY 2012 vs PY 2011
State | PY 2011 (Pre-FY 2012 0.189% rescission) | PY 2012 | Difference | % Difference
Total | $770,921,920 | $770,810,637 | ($111,283) | −0.01
Alabama | 12,090,307 | 11,433,310 | (656,997) | −5.43
Alaska | 2,118,648 | 1,922,209 | (196,439) | −9.27
Arizona | 14,638,503 | 15,820,881 | 1,182,378 | 8.08
Arkansas | 6,399,544 | 6,067,684 | (331,860) | −5.19
California | 113,937,862 | 120,000,208 | 6,062,346 | 5.32
Colorado | 8,838,405 | 10,859,799 | 2,021,394 | 22.87
Connecticut | 7,208,528 | 7,932,575 | 724,047 | 10.04
Delaware | 1,922,487 | 1,922,209 | (278) | −0.01
District of Columbia | 2,040,921 | 1,973,348 | (67,573) | −3.31
Florida | 50,666,671 | 53,270,412 | 2,603,741 | 5.14
Georgia | 22,840,137 | 24,047,603 | 1,207,466 | 5.29
Hawaii | 2,375,218 | 2,357,815 | (17,403) | −0.73
Idaho | 3,112,389 | 3,566,489 | 454,100 | 14.59
Illinois | 33,485,477 | 30,469,621 | (3,015,856) | −9.01
Indiana | 14,120,139 | 13,618,422 | (501,717) | −3.55
Iowa | 3,872,586 | 3,670,939 | (201,647) | −5.21
Kansas | 4,349,496 | 4,614,871 | 265,375 | 6.10
Kentucky | 12,990,026 | 13,197,513 | 207,487 | 1.60
Louisiana | 10,979,275 | 10,605,200 | (374,075) | −3.41
Maine | 2,730,113 | 2,687,582 | (42,531) | −1.56
Maryland | 9,553,233 | 9,857,689 | 304,456 | 3.19
Massachusetts | 14,398,404 | 13,525,014 | (873,390) | −6.07
Michigan | 38,927,229 | 35,029,449 | (3,897,780) | −10.01
Minnesota | 10,065,109 | 9,134,795 | (930,314) | −9.24
Mississippi | 9,805,450 | 8,823,631 | (981,819) | −10.01
Missouri | 13,419,717 | 14,003,193 | 583,476 | 4.35
Montana | 2,120,862 | 2,348,495 | 227,633 | 10.73
Nebraska | 1,922,487 | 1,922,209 | (278) | −0.01
Nevada | 8,185,256 | 8,978,521 | 793,265 | 9.69
New Hampshire | 1,922,487 | 1,922,209 | (278) | −0.01
New Jersey | 20,215,513 | 20,260,335 | 44,822 | 0.22
New Mexico | 4,573,434 | 4,727,107 | 153,673 | 3.36
New York | 45,933,685 | 45,779,283 | (154,402) | −0.34
North Carolina | 22,906,147 | 22,178,866 | (727,281) | −3.18
North Dakota | 1,922,487 | 1,922,209 | (278) | −0.01
Ohio | 29,608,861 | 27,089,923 | (2,518,938) | −8.51
Oklahoma | 6,455,261 | 6,289,462 | (165,799) | −2.57
Oregon | 10,347,514 | 10,151,677 | (195,837) | −1.89
Pennsylvania | 26,995,920 | 26,000,980 | (994,940) | −3.69
Puerto Rico | 25,392,538 | 22,849,985 | (2,542,553) | −10.01
Rhode Island | 3,245,983 | 3,182,636 | (63,347) | −1.95
South Carolina | 13,141,414 | 12,076,612 | (1,064,802) | −8.10
South Dakota | 1,922,487 | 1,922,209 | (278) | −0.01
Tennessee | 15,820,576 | 15,406,376 | (414,200) | −2.62
Texas | 49,503,599 | 52,386,229 | 2,882,630 | 5.82
Utah | 3,276,560 | 4,258,913 | 982,353 | 29.98
Vermont | 1,922,487 | 1,922,209 | (278) | −0.01
Virginia | 12,422,005 | 11,977,315 | (444,690) | −3.58
Washington | 14,762,815 | 15,738,264 | 975,449 | 6.61
West Virginia | 4,403,989 | 4,670,162 | 266,173 | 6.04
Wisconsin | 11,261,887 | 10,586,754 | (675,133) | −5.99
Wyoming | 1,922,487 | 1,922,209 | (278) | −0.01
State Total | 768,994,615 | 768,883,610 | (111,005) | −0.01
American Samoa | 109,235 | 109,218 | (17) | −0.02
Guam | 889,140 | 889,007 | (133) | −0.01
Northern Marianas | 329,026 | 328,977 | (49) | −0.01
Palau | 75,000 | 75,000 | 0 | 0.00
Virgin Islands | 524,904 | 524,825 | (79) | −0.02
Outlying Areas Total | 1,927,305 | 1,927,027 | (278) | −0.01

Table C—U.S. Department of Labor Employment and Training Administration WIA Dislocated Worker Activities State Allotments Comparison of PY 2012 vs PY 2011
State | PY 2011 (Pre-FY 2012 0.189% rescission) | PY 2012 | Difference | % Difference
Total | $1,287,544,000 | $1,232,217,892 | ($55,326,108) | −4.30
Alabama | 16,128,630 | 15,469,879 | (658,751) | −4.08
Alaska | 1,804,590 | 1,617,337 | (187,253) | −10.38
Arizona | 21,992,101 | 21,499,925 | (492,176) | −2.24
Arkansas | 6,535,066 | 7,022,211 | 487,145 | 7.45
California | 170,303,818 | 167,279,720 | (3,024,098) | −1.78
Colorado | 13,969,269 | 16,138,114 | 2,168,845 | 15.53
Connecticut | 12,117,862 | 12,425,813 | 307,951 | 2.54
Delaware | 2,526,887 | 2,364,143 | (162,744) | −6.44
District of Columbia | 2,592,780 | 2,584,544 | (8,236) | −0.32
Florida | 81,270,552 | 77,488,229 | (3,782,323) | −4.65
Georgia | 35,502,366 | 36,619,541 | 1,117,175 | 3.15
Hawaii | 2,539,205 | 2,544,104 | 4,899 | 0.19
Idaho | 4,240,518 | 4,848,656 | 608,138 | 14.34
Illinois | 52,391,500 | 45,174,858 | (7,216,642) | −13.77
Indiana | 22,971,198 | 19,764,183 | (3,207,015) | −13.96
Iowa | 6,222,410 | 5,396,211 | (826,199) | −13.28
Kansas | 5,780,312 | 6,269,130 | 488,818 | 8.46
Kentucky | 14,985,351 | 14,426,545 | (558,806) | −3.73
Louisiana | 8,768,499 | 10,053,020 | 1,284,521 | 14.65
Maine | 3,599,239 | 3,411,860 | (187,379) | −5.21
Maryland | 14,302,198 | 13,446,336 | (855,862) | −5.98
Massachusetts | 21,065,395 | 18,123,153 | (2,942,242) | −13.97
Michigan | 51,285,260 | 37,950,243 | (13,335,017) | −26.00
Minnesota | 12,889,304 | 12,016,430 | (872,874) | −6.77
Mississippi | 10,150,118 | 10,347,245 | 197,127 | 1.94
Missouri | 19,187,040 | 19,339,341 | 152,301 | 0.79
Montana | 2,047,301 | 2,228,454 | 181,153 | 8.85
Nebraska | 2,059,689 | 1,769,045 | (290,644) | −14.11
Nevada | 14,332,064 | 14,404,698 | 72,634 | 0.51
New Hampshire | 2,764,686 | 2,023,863 | (740,823) | −26.80
New Jersey | 32,250,359 | 30,891,644 | (1,358,715) | −4.21
New Mexico | 5,179,814 | 4,691,620 | (488,194) | −9.42
New York | 55,889,913 | 53,040,830 | (2,849,083) | −5.10
North Carolina | 35,096,512 | 33,775,540 | (1,320,972) | −3.76
North Dakota | 499,920 | 491,586 | (8,334) | −1.67
Ohio | 44,079,882 | 37,410,700 | (6,669,182) | −15.13
Oklahoma | 6,917,377 | 5,818,181 | (1,099,196) | −15.89
Oregon | 15,077,317 | 14,179,357 | (897,960) | −5.96
Pennsylvania | 37,972,551 | 33,628,882 | (4,343,669) | −11.44
Puerto Rico | 13,696,022 | 13,792,527 | 96,505 | 0.70
Rhode Island | 5,104,108 | 4,729,397 | (374,711) | −7.34
South Carolina | 19,186,456 | 17,247,928 | (1,938,528) | −10.10
South Dakota | 840,914 | 914,615 | 73,701 | 8.76
Tennessee | 22,128,000 | 21,002,405 | (1,125,595) | −5.09
Texas | 62,020,936 | 65,045,270 | 3,024,334 | 4.88
Utah | 6,063,094 | 6,236,314 | 173,220 | 2.86
Vermont | 1,243,942 | 1,060,351 | (183,591) | −14.76
Virginia | 18,481,552 | 16,429,934 | (2,051,618) | −11.10
Washington | 22,272,901 | 22,715,887 | 442,986 | 1.99
West Virginia | 4,558,971 | 4,805,556 | 246,585 | 5.41
Wisconsin | 17,345,523 | 15,286,735 | (2,058,788) | −11.87
Wyoming | 1,201,048 | 909,374 | (291,674) | −24.28
State Total | 1,063,432,320 | 1,008,151,464 | (55,280,856) | −5.20
American Samoa | 182,437 | 174,596 | (7,841) | −4.30
Guam | 1,484,984 | 1,421,166 | (63,818) | −4.30
Northern Marianas | 549,518 | 525,903 | (23,615) | −4.30
Palau | 125,260 | 119,895 | (5,365) | −4.28
Virgin Islands | 876,661 | 838,985 | (37,676) | −4.30
Outlying Areas Total | 3,218,860 | 3,080,545 | (138,315) | −4.30
National Reserve | 220,892,820 | 220,985,883 | 93,063 | 0.04

Table D—U.S. Department of Labor Employment and Training Administration Employment Service (Wagner-Peyser) PY 2012 vs PY 2011 Final Allotments
State | Final PY 2011 | Final PY 2012 | Difference | % Difference
Total | $702,168,848 | $700,841,900 | ($1,326,948) | −0.19
Alabama | 9,001,789 | 9,114,728 | 112,939 | 1.25
Alaska | 7,632,911 | 7,618,486 | (14,425) | −0.19
Arizona | 13,258,184 | 13,416,510 | 158,326 | 1.19
Arkansas | 5,681,857 | 5,641,422 | (40,435) | −0.71
California | 83,952,834 | 83,874,952 | (77,882) | −0.09
Colorado | 10,866,249 | 11,123,996 | 257,747 | 2.37
Connecticut | 7,819,386 | 7,886,732 | 67,346 | 0.86
Delaware | 1,961,280 | 1,957,574 | (3,706) | −0.19
District of Columbia | 2,418,616 | 2,361,773 | (56,843) | −2.35
Florida | 41,764,675 | 41,597,929 | (166,746) | −0.40
Georgia | 20,557,324 | 20,518,463 | (38,861) | −0.19
Hawaii | 2,494,923 | 2,474,455 | (20,468) | −0.82
Idaho | 6,359,573 | 6,347,555 | (12,018) | −0.19
Illinois | 29,100,366 | 28,905,034 | (195,332) | −0.67
Indiana | 13,763,379 | 13,614,524 | (148,855) | −1.08
Iowa | 6,495,675 | 6,439,570 | (56,105) | −0.86
Kansas | 5,968,265 | 5,924,673 | (43,592) | −0.73
Kentucky | 9,075,114 | 9,063,496 | (11,618) | −0.13
Louisiana | 8,843,833 | 8,712,855 | (130,978) | −1.48
Maine | 3,781,977 | 3,774,830 | (7,147) | −0.19
Maryland | 11,722,275 | 11,687,183 | (35,092) | −0.30
Massachusetts | 14,234,162 | 14,148,935 | (85,227) | −0.60
Michigan | 24,113,898 | 23,547,173 | (566,725) | −2.35
Minnesota | 11,997,952 | 11,868,691 | (129,261) | −1.08
Mississippi | 6,165,253 | 6,118,274 | (46,979) | −0.76
Missouri | 12,903,606 | 12,837,723 | (65,883) | −0.51
Montana | 5,197,075 | 5,187,254 | (9,821) | −0.19
Nebraska | 6,245,863 | 6,234,060 | (11,803) | −0.19
Nevada | 6,550,359 | 6,505,421 | (44,938) | −0.69
New Hampshire | 2,833,820 | 2,803,840 | (29,980) | −1.06
New Jersey | 18,929,760 | 19,163,297 | 233,537 | 1.23
New Mexico | 5,832,033 | 5,821,012 | (11,021) | −0.19
New York | 40,044,986 | 39,748,915 | (296,071) | −0.74
North Carolina | 19,923,339 | 19,836,199 | (87,140) | −0.44
North Dakota | 5,292,177 | 5,282,176 | (10,001) | −0.19
Ohio | 26,306,239 | 25,946,567 | (359,672) | −1.37
Oklahoma | 6,853,237 | 6,779,019 | (74,218) | −1.08
Oregon | 8,821,269 | 8,758,927 | (62,342) | −0.71
Pennsylvania | 26,526,233 | 26,310,462 | (215,771) | −0.81
Puerto Rico | 7,871,512 | 7,686,516 | (184,996) | −2.35
Rhode Island | 2,639,094 | 2,618,648 | (20,446) | −0.77
South Carolina | 9,864,977 | 9,785,215 | (79,762) | −0.81
South Dakota | 4,891,189 | 4,881,946 | (9,243) | −0.19
Tennessee | 13,083,238 | 13,308,517 | 225,279 | 1.72
Texas | 48,565,592 | 49,945,739 | 1,380,147 | 2.84
Utah | 7,284,273 | 7,113,078 | (171,195) | −2.35
Vermont | 2,291,311 | 2,286,981 | (4,330) | −0.19
Virginia | 15,912,960 | 15,905,779 | (7,181) | −0.05
Washington | 14,651,411 | 14,673,520 | 22,109 | 0.15
West Virginia | 5,598,448 | 5,587,868 | (10,580) | −0.19
Wisconsin | 12,716,632 | 12,597,349 | (119,283) | −0.94
Wyoming | 3,794,821 | 3,787,650 | (7,171) | −0.19
State Total | 700,457,204 | 699,133,491 | (1,323,713) | −0.19
Guam | 328,561 | 327,940 | (621) | −0.19
Virgin Islands | 1,383,083 | 1,380,469 | (2,614) | −0.19
Outlying Areas Total | 1,711,644 | 1,708,409 | (3,235) | −0.19

Table E—U.S. Department of Labor Employment and Training Administration Workforce Information Grants to States PY 2012 vs PY 2011 Allotments
State | PY 2011 | PY 2012 | Difference | % Difference
Total | $31,936,000 | $31,939,520 | $3,520 | 0.01
Alabama | 500,647 | 508,082 | 7,435 | 1.49
Alaska | 288,982 | 289,182 | 200 | 0.07
Arizona | 632,935 | 634,754 | 1,819 | 0.29
Arkansas | 411,497 | 411,636 | 139 | 0.03
California | 2,483,795 | 2,471,363 | (12,432) | −0.50
Colorado | 570,990 | 574,272 | 3,282 | 0.57
Connecticut | 476,946 | 476,928 | (18) | 0.00
Delaware | 296,667 | 296,619 | (48) | −0.02
District of Columbia | 285,384 | 285,345 | (39) | −0.01
Florida | 1,379,470 | 1,382,267 | 2,797 | 0.20
Georgia | 821,518 | 822,490 | 972 | 0.12
Hawaii | 322,344 | 322,178 | (166) | −0.05
Idaho | 337,184 | 338,014 | 830 | 0.25
Illinois | 1,060,267 | 1,059,262 | (1,005) | −0.09
Indiana | 628,290 | 628,745 | 455 | 0.07
Iowa | 450,618 | 450,398 | (220) | −0.05
Kansas | 429,451 | 429,282 | (169) | −0.04
Kentucky | 499,293 | 503,058 | 3,765 | 0.75
Louisiana | 500,874 | 498,490 | (2,384) | −0.48
Maine | 330,405 | 330,165 | (240) | −0.07
Maryland | 607,963 | 611,479 | 3,516 | 0.58
Massachusetts | 671,621 | 674,268 | 2,647 | 0.39
Michigan | 840,199 | 826,454 | (13,745) | −1.64
Minnesota | 609,146 | 610,066 | 920 | 0.15
Mississippi | 403,784 | 409,097 | 5,313 | 1.32
Missouri | 612,168 | 616,486 | 4,318 | 0.71
Montana | 305,461 | 305,900 | 439 | 0.14
Nebraska | 364,956 | 365,623 | 667 | 0.18
Nevada | 412,224 | 406,858 | (5,366) | −1.30
New Hampshire | 335,675 | 335,775 | 100 | 0.03
New Jersey | 801,753 | 797,757 | (3,996) | −0.50
New Mexico | 362,260 | 360,655 | (1,605) | −0.44
New York | 1,431,886 | 1,421,421 | (10,465) | −0.73
North Carolina | 800,773 | 796,599 | (4,174) | −0.52
North Dakota | 289,407 | 290,251 | 844 | 0.29
Ohio | 973,816 | 968,454 | (5,362) | −0.55
Oklahoma | 461,908 | 458,559 | (3,349) | −0.73
Oregon | 484,674 | 489,737 | 5,063 | 1.04
Pennsylvania | 1,032,323 | 1,024,530 | (7,793) | −0.75
Puerto Rico | 404,628 | 401,448 | (3,180) | −0.79
Rhode Island | 314,871 | 314,447 | (424) | −0.13
South Carolina | 510,108 | 510,204 | 96 | 0.02
South Dakota | 298,888 | 299,393 | 505 | 0.17
Tennessee | 615,549 | 626,347 | 10,798 | 1.75
Texas | 1,734,172 | 1,751,537 | 17,365 | 1.00
Utah | 410,093 | 410,985 | 892 | 0.22
Vermont | 288,413 | 288,917 | 504 | 0.17
Virginia | 756,466 | 761,294 | 4,828 | 0.64
Washington | 677,933 | 674,609 | (3,324) | −0.49
West Virginia | 340,653 | 340,288 | (365) | −0.11
Wisconsin | 617,807 | 620,620 | 2,813 | 0.46
Wyoming | 280,219 | 280,277 | 58 | 0.02
State Total | 31,759,354 | 31,762,865 | 3,511 | 0.01
Guam | 92,813 | 92,818 | 5 | 0.01
Virgin Islands | 83,833 | 83,837 | 4 | 0.00
Outlying Areas Total | 176,646 | 176,655 | 9 | 0.01

Signed: at Washington, DC, on this 13th day of March, 2012.
Jane Oates,
Assistant Secretary.

[FR Doc. 2012-6446 Filed 3-15-12; 8:45 am]

BILLING CODE P